DEPARTMENT OF COMMERCE

International Trade Administration

[A-570-803]

Heavy Forged Hand Tools, Finished or Unfinished, With or Without Handles, From the People's Republic of China: Preliminary Rescission of Antidumping Duty Administrative Reviews

AGENCY: Import Administration, International Trade Administration, Department of Commerce.

SUMMARY: The Department of Commerce (“the Department”) is preliminarily rescinding the administrative reviews on heavy forged hand tools, finished or unfinished, with or without handles (“HFHTs”) from the People's Republic of China (“PRC”). These reviews cover the period of review of February 1, 2006, through January 31, 2007 (“POR”).

EFFECTIVE DATE: March 5, 2008.

FOR FURTHER INFORMATION CONTACT: Javier Barrientos, AD/CVD Operations, Office 9, Import Administration, International Trade Administration, U.S. Department of Commerce, 14th Street and Constitution Avenue, NW, Washington, DC 20230; telephone: (202) 482-2243.

SUPPLEMENTARY INFORMATION:

Background

On February 2, 2007, the Department of Commerce (“the Department”) published a notice of opportunity to request an administrative eview of the antidumping duty orders on heavy forged hand tools from the PRC for the POR. See Antidumping or Countervailing Duty Order, Finding, or Suspended Investigation; Opportunity to Request Administrative Review, 72 FR 5007 (February 2, 2007). On February 28, 2007, Council Tool Company, a domestic interested party, requested that the Department conduct administrative reviews of Truper Herramientas S.A. de C.V. (“Truper”), a Mexican importer of HFHTs from the PRC. On March 28, 2007, the Department published a notice of initiation of an antidumping duty administrative reviews on HFHTs from the PRC. See Initiation of Antidumping and Countervailing Duty Administrative Reviews, 72 FR 14516 (March 28, 2007) (“Notice of Initiation”),.

On May 4, 2007, Truper submitted a letter stating that it had no sales of subject merchandise to the United States during the POR. On May 10, 2007, we sent an inquiry to United States Customs and Border Protection (“CBP”) requesting notification as to whether it had information indicating that there were shipments of subject merchandise into the United States during the POR by Truper. On April 25, 2007, September 7, 2007,¹ and November 2, 2007, we issued Truper questionnaires, for which we received timely responses. On November 9, 2007, we extended the deadline for the preliminary results. See Heavy Forged Hand Tools, Finished or Unfinished, With or Without Handles, From the People's Republic of China: Extension of Time Limit for the Preliminary Results of the Antidumping Duty Administrative Review, 72 FR 63557 (November 9, 2007). On January 28, 2007, through January 30, 2007, the Department verified Truper's questionnaire responses. See Memorandum to the File: Verification of Truper Herramientas S.A. de C.V. in the Antidumping Administrative Review of Heavy Forged Hand Tools from the People's Republic of China, dated February 26, 2008 (“Truper Verication Report”).

¹ On September 5, 2007, the Department placed information obtained from CBP on the record of this review suggesting that Truper had entries of PRC HFHTs to the United States during the POR.

Scope of the Review

The products covered by these orders are HFHTs from the PRC, comprising the following classes or kinds of merchandise: (1) hammers and sledges with heads over 1.5 kg (3.33 pounds); (2) bars over 18 inches in length, track tools and wedges; (3) picks and mattocks; and (4) axes, adzes and similar hewing tools. HFHTs include heads for drilling hammers, sledges, axes, mauls, picks and mattocks, which may or may not be painted, which may or may not be finished, or which may or may not be imported with handles; assorted bar products and track tools including wrecking bars, digging bars and tampers; and steel wood splitting wedges. HFHTs are manufactured through a hot forge operation in which steel is sheared to required length, heated to forging temperature, and formed to final shape on forging equipment using dies specific to the desired product shape and size. Depending on the product, finishing operations may include shot blasting, grinding, polishing and painting, and the insertion of handles for handled products. HFHTs are currently provided for under the following Harmonized Tariff System of the United States (“HTSUS”) subheadings: 8205.20.60, 8205.59.30, 8201.30.00, 8201.40.60, and 8205.59.5510. Specifically excluded from these investigations are hammers and sledges with heads 1.5 kg. (3.33 pounds) in weight and under, hoes and rakes, and bars 18 inches in length and under. The HTSUS subheadings are provided for convenience and customs purposes. The written description remains dispositive.

The Department issued nine conclusive scope rulings regarding the merchandise covered by these orders: (1) On August 16, 1993, the Department found the “Max Multi-Purpose Axe,” imported by the Forrest Tool Company, to be within the scope of the axes/adzes order; (2) on March 8, 2001, the Department found “18-inch” and “24-inch” pry bars, produced without dies, imported by Olympia Industrial, Inc. and SMC Pacific Tools, Inc., to be within the scope of the bars/wedges order; (3) on March 8, 2001, the Department found the “Pulaski” tool, produced without dies by TMC, to be within the scope of the axes/adzes order; (4) on March 8, 2001, the Department found the “skinning axe,” imported by Import Traders, Inc., to be within the scope of the axes/adzes order; (5) on December 9, 2004, the Department found the “MUTT,” imported by Olympia Industrial, Inc., under HTSUS 8205.59.5510, to be within the scope of the axes/adzes order; (6) on May 23, 2005, the Department found 8-inch by 8-inch and 10-inch by 10-inch cast tampers, imported by Olympia Industrial, Inc. to be outside the scope of the orders; (7) on September 22, 2005, following remand, the U.S. Court of International Trade affirmed the Department's determination that cast picks are outside the scope of the order; (8) on October 14, 2005, the Department found the Mean Green Splitting Machine, imported by Avalanche Industries, under HTSUS 8201.40.60, to be within the scope of the bars/wedges order, and (9) on July 27, 2006, the Department found that the gooseneck claw wrecking bar which has a length of 17 7/8” not including the curvature portion of the bar stock, imported by Central Purchasing, LLC, to be outside the scope of the order for bars and wedges.

Preliminary Rescission of Reviews

On May 4, 2007, Truper responded to the Department's questionnaire and stated that it made no sales of subject merchandise to the United States during the POR. Based on information placed on the record September 5, 2007, the Department issued Truper several questionnaires. See Background section above. Accordingly, the Department verified Truper's information and confirmed Truper's statements that it neither purchased nor resold HFHTs from PRC to the United States during the POR. See Truper Verification Report. Therefore, because there is no information on the record that indicates Truper made sales to the United States of HFHTs from the PRC during the POR, and because Truper is the only company subject to these administrative reviews, we are preliminarily rescinding these reviews for the period of February 1, 2006, to January 31, 2007, in accordance with 19 CFR 351.213(d)(3) and consistent with our practice. Interested parties may submit case briefs and/or written comments no later than 30 days after the date of publication of this notice. See 19 CFR 351.309(c)(ii). Rebuttal briefs and rebuttals to written comments, limited to issues raised in such briefs or comments, may be filed no later than 5 days after the deadline for submitting the case briefs. See 19 CFR 351.309(d). The Department requests that interested parties provide an executive summary of each argument contained within the case briefs and rebuttal briefs.

Any interested party may request a hearing within 30 days of publication of this notice. See 19 CFR 351.310(c). Requests should contain the following information: (1) The party's name, address, and telephone number; (2) the number of participants; and (3) a list of the issues to be discussed. Oral presentations will be limited to issues raised in the briefs. If we receive a request for a hearing, we plan to hold the hearing seven days after the deadline for submission of the rebuttal briefs at the U.S. Department of Commerce, 14th Street and Constitution Avenue, NW, Washington, DC 20230. The Department will issue the final results of this administrative review, which will include the results of its analysis of issues raised in any such comments, within 120 days of publication of this preliminary rescission, and will publish these results in the Federal Register.

This notice is in accordance with section 751 and 777(i)(1) of the Tariff Act of 1930, as amended, and 19 CFR 351.213(d)(4).

Dated: February 28, 2008.
Stephen J. Claeys,
Deputy Assistant Secretary for Import Administration.

[FR Doc. E8-4248 Filed 3-4-08; 8:45 am]

BILLING CODE 3510-DS-S